ENVIRONMENTAL PROTECTION AGENCY

40 CFR Part 261

[EPA-HQ—RCRA-2005-0017, FRL-8441-8]

RIN 2050-AG24

Expansion of RCRA Comparable Fuel Exclusion; Extension of Comment Period

AGENCY: Environmental Protection Agency (EPA).

ACTION: Proposed rule; extension of comment period.

SUMMARY: EPA is announcing that the comment period to the proposed rule entitled Expansion of RCRA Comparable Fuel Exclusion, published on June 15, 2007 (72 FR 33284), is being extended until September 14, 2007. In the proposed rule, EPA is expanding the comparable fuel exclusion under the rules implementing subtitle C of the Resource Conservation and Recovery Act (RCRA) for fuels that are produced from hazardous waste but which generate emissions that are comparable to emissions from burning fuel oil when such fuels are burned in an industrial boiler. We are requesting comments on a number of issues associated with this expansion of the Comparable Fuel Exclusion.

DATES: The comment period for the proposed rule published at 72 FR 33284, June 15, 2007, is extended from the original closing date of August 14, 2007 to September 14, 2007. Under the Paperwork Reduction Act, comments on the information collection provisions were originally due to be received by OMB on or before July 16, 2007. Those comments will now be due along with the rest of the comments on or before September 14, 2007.

ADDRESSES: Submit your comments, identified by Docket ID No. EPA-HQ-RCRA-2005-0017, by one of the following methods:

• Federal eRulemaking Portal: http://www.regulations.gov. Follow the on-line instructions for submitting comments.

• E-mail: rcra-docket@epa.gov.

• Fax: 202-566-9744.

• Mail: U.S. Postal Service, send comments to: RCRA Docket, Environmental Protection Agency, Mailcode: 2822T, 1200 Pennsylvania Avenue, NW., Washington, DC 20460. Please include a total of two copies. We request that you also send a separate copy of each comment to the contact person listed below (see FOR FURTHER INFORMATION CONTACT).

• Hand Delivery: In person or by courier, deliver comments to: RCRA Docket, EPA Docket Center (2822T), Room 3334, 1301 Constitution Ave., NW., Washington, DC. Such deliveries are only accepted during the Docket's normal hours of operation, and special arrangements should be made for deliveries of boxed information. Please include a total of two copies. We request that you also send a separate copy of each comment to the contact person listed below (see FOR FURTHER INFORMATION CONTACT).

Instructions: Direct your comments to Docket ID No. EPA-HQ-RCRA-2005-0017. The EPA's policy is that all comments received will be included in the public docket without change and may be made available online at www.regulations.gov, including any personal information provided, unless the comment includes information claimed to be Confidential Business Information (CBI) or other information the disclosure of which is restricted by statute. Do not submit information that you consider to be CBI or otherwise protected through www.regulations.gov or e-mail. Send or deliver information identified as CBI to only the following address: Ms. LaShan Haynes, RCRA Document Control Officer, EPA (Mail Code 5305P), Attention Docket ID No. EPA-HQ-RCRA-2005-0017, 1200 Pennsylvania Avenue, Washington DC 20460. Clearly mark the part or all of the information that you claim to be CBI. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. We also request that interested parties who would like information they previously submitted to EPA to be considered as part of this reconsideration action identify the relevant information by docket entry numbers and page numbers.

Docket: All documents in the docket are listed in the www.regulations.gov index. Although listed in the index, some information is not publicly available, e.g., CBI or other information the disclosure of which is restricted by statute. Certain other material, such as copyrighted material, will be publicly available only in hard copy. Publicly available docket materials are available either electronically in www.regulations.gov or in hard copy at the RCRA Docket, EPA/DC, EPA West, Room 3334, 1301 Constitution Ave., NW., Washington, DC. This Docket Facility is open from 8:30 a.m. to 4:30 p.m., Monday through Friday, excluding legal holidays. The HQ EPA Docket Center telephone number is (202) 566-1742. The Public Reading Room is open from 8:30 a.m. to 4:30 p.m., Monday through Friday, excluding legal holidays. The telephone number for the Public Reading Room is (202) 566-1744, and the telephone number for the RCRA Docket is (202) 566-0270. A reasonable fee may be charged for copying docket materials.

FOR FURTHER INFORMATION CONTACT: For more information on this rulemaking, contact Mary Jackson at (703) 308-8453, or jackson.mary@epa.gov, Office of Solid Waste (MC: 5302P), U.S. Environmental Protection Agency, 1200 Pennsylvania Ave., NW., Washington, DC 20460.

SUPPLEMENTARY INFORMATION: Comment Period. We are extending the comment period by thirty days in response to commenters' request for more time to respond to issues in the proposed rule published on June 15, 2007 (72 FR at 33284). In addition, we are extending the comment period for the information collection provisions by 60 days. Therefore, the public comment period for the rule and information collection provisions will now end on September 14, 2007.

Regulated Entities. Categories and entities potentially affected by this action include:

Category | NAICS code | SIC code | Examples of potentially regulated entities
Any industry that generates or combusts hazardous waste as defined in the proposed rule | 562 327 325 324 | 49 32 28 29 | Waste Management and Remediation Services. Non-metallic Mineral Products Manufacturing. Chemical Manufacturing. Petroleum and Coal Products Manufacturing.
| 331 | 33 | Primary Metals Manufacturing.
| 333 | 38 | Machinery Manufacturing.
| 326 | 306 | Plastic and Rubber Products Manufacturing.
| 488, 561 | 49 | Administration and Support Services.
| 421 | 50 | Scrap and waste materials.
| 422 | 51 | Wholesale Trade, Non-durable Goods, N.E.C.
| 512, 541, 812 | 73 | Business Services, N.E.C.
| 512, 514, 541, 711 | 89 | Services, N.E.C.
| 924 | 95 | Air, Water and Solid Waste Management.
| 336 | 37 | Transportation Equipment.
| 928 | 97 | National Security.
| 334 | 35 | Computer and Electronic Products Manufacturing.
| 339 | 38 | Miscellaneous Manufacturing.

This table is not intended to be exhaustive, but rather provides a guide for readers regarding entities likely to be impacted by this action. This table lists examples of the types of entities EPA is now aware could potentially be regulated by this action. Other types of entities not listed could also be affected. To determine whether your facility, company, business, organization, etc., is affected by this action, you should examine the applicability criteria in the proposed rule published on June 15, 2007. If you have any questions regarding the applicability of this action to a particular entity, consult the person listed in the preceding FOR FURTHER INFORMATION CONTACT section.

World Wide Web (WWW). In addition to being available in the docket, an electronic copy of the proposed rule is available at http://epa.gov/epaoswer/hazwaste/combust/compfuels/exclusion.htm. This Web site also provides other information related to the Comparable Fuel Exclusion.

Submitting CBI. Do not submit this information to EPA through www.regulations.gov or e-mail. Send or deliver information identified as CBI only to the address listed in the ADDRESSES section of this document. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

List of Subjects in 40 CFR Part 261

Hazardous waste, Recycling, Reporting and recordkeeping requirements.

Dated: July 12, 2007.
Robert W. Hall,
Acting Director, Office of Solid Waste.

[FR Doc. E7-14006 Filed 7-18-07; 8:45 am]

BILLING CODE 6560-50-P